ENVIRONMENTAL PROTECTION AGENCY

[ER-FRL-9042-5]

Environmental Impact Statements; Notice of Availability

Responsible Agency: Office of Federal Activities, General Information 202-564-5632 or https://www.epa.gov/nepa/.

Weekly receipt of Environmental Impact Statements

Filed 11/12/2018 Through 11/16/2018

Pursuant to 40 CFR 1506.9

Notice

Section 309(a) of the Clean Air Act requires that EPA make public its comments on EISs issued by other Federal agencies. EPA's comment letters on EISs are available at: https://cdxnodengn.epa.gov/cdx-enepa-public/action/eis/search.

EIS No. 20180283, Final Supplement, NRC, LA, NUREG-1437, Supplement 59 Waterford Steam Electric Station, Unit 3 license renewal, Review Period Ends: 12/24/2018, Contact: Elaine Keegan 301-415-8517.

Dated: November 19, 2018.
Robert Tomiak,
Director, Office of Federal Activities.

[FR Doc. 2018-25590 Filed 11-21-18; 8:45 am]

BILLING CODE 6560-50-P